DEPARTMENT OF COMMERCE

Foreign-Trade Zones Board

[B-03-2019]

Foreign-Trade Zone (FTZ) 68—El Paso, Texas, Authorization of Production Activity, The Woodbridge Group (Flame Laminated Textiles), El Paso, Texas

On February 6, 2019, the City of El Paso, grantee of FTZ 68, submitted a notification of proposed production activity to the FTZ Board on behalf of The Woodbridge Group, within Site 10, in El Paso, Texas.

The notification was processed in accordance with the regulations of the FTZ Board (15 CFR part 400), including notice in the Federal Register inviting public comment (84 FR 3758-3759, February 13, 2019). On June 6, 2019, the applicant was notified of the FTZ Board's decision that no further review of the activity is warranted at this time. The FTZ Board authorized the production activity described in the notification, subject to the FTZ Act and the Board's regulations, including Section 400.14. Given the applicant's commitment in its notification, the following must be admitted to the subzone in privileged foreign status (19 CFR 146.41): Vinyl coated fabric with polyvinyl chloride; woven polyester fabric yarn dyed and coated with polyurethane; synthetic leather rolls; vinyl leather imitation; artificial leather cloth; sheets of plastics—cellular—polyvinyl chloride fabric of man-made fibers; sheets of plastics—non-cellular—polyvinyl chloride; sheets of plastics—cellular—100% plastic; rolls of cotton fabric coated with polyvinyl chlorides; fabric of man-made fibers coated with over 70% plastic; fabric of man-made fibers coated with under 70% plastic; sheets of plastics—cellular—polyvinyl chloride—over 70% plastic combined with 65/35 poly cotton fabrics; sheets of plastics—cellular—of other plastics; woven synthetic fabric rolls 100% for automotive industry; polyvinyl chloride leather; 100% polyester knit fabrics; and, knitted polyester fabric 100% (circular knit).

Dated: June 6, 2019.
Andrew McGilvray,
Executive Secretary.

[FR Doc. 2019-12390 Filed 6-11-19; 8:45 am]

BILLING CODE 3510-DS-P